FINANCIAL CRISIS INQUIRY COMMISSION

Notice of Open Meeting

SUMMARY: The Financial Crisis Inquiry Commission (FCIC) announces that it will hold a forum that will bring together experts who have researched the financial crisis. The economists will present working papers to the Commissioners on the key issues and events leading up to the crisis and its underlying causes. The presentations will be followed by discussion with the Commissioners. The forum will also be webcast live at http://www.FCIC.gov.

DATES: The forum will be held on Friday, February 26, 2010, from 1 p.m. to 6 p.m. and Saturday, February 27, 2010, from 8 a.m. to 2:45 p.m.

ADDRESSES: The forum will be held at: American University Washington College of Law, Room 603, 4801 Massachusetts Avenue, NW., Washington, DC 20016.

FOR FURTHER INFORMATION CONTACT: Gretchen Newsom, The Financial Crisis Inquiry Commission, 1717 Pennsylvania Avenue, Suite 800, Washington, DC 20006, 202-292-2799; 202-632-1604 fax.

SUPPLEMENTARY INFORMATION: The purpose of the Financial Crisis Inquiry Commission is to examine the causes, domestic and global, of the current financial and economic crisis in the United States, per the requirements of the Fraud Enforcement and Recovery Act of 2009 (“FERN”), Section 5, Public Law 111-21, 123 Stat. 1617 (2009).

Public Participation

The meeting is open to the public. The Chairman of the Commission will lead the forum for the orderly conduct of business.

Dated: February 25, 2010.
Gretchen Kinney Newsom,
Certifying Official and Special Assistant to the Chairman, Financial Crisis Inquiry Commission.

[FR Doc. 2010-4218 Filed 2-25-10; 11:15 am]

BILLING CODE 6820-RK-P